DEPARTMENT OF COMMERCE

Office of the Secretary

[Docket No. 140605479-4479-01]

Privacy Act of 1974: System of Records

AGENCY: Department of Commerce.

ACTION: Notice of Proposed Amendment to Privacy Act System of Records: “COMMERCE/DEPT-1, Attendance, Leave, and Payroll Records of Employees and Certain Other Persons”.

SUMMARY: In accordance with the Privacy Act of 1974, as amended, 5 U.S.C. 552a(e)(4) and (11), the Department of Commerce proposes to amend the system of records entitled “COMMERCE/DEPT-1, Attendance, Leave, and Payroll Records of Employees and Certain Other Persons,” to include data fields collected by the Defense Manpower Data Center and previously omitted in this System of Records Notice; to include a new routine use, for the issuance of Common Access Cards (CAC) identification cards to eligible National Oceanic and Atmospheric (NOAA) Commissioned Corps, NOAA civilian employees and NOAA contractors, to support compliance with HSPD-12, PIV-II requirements under Federal Information Processing Standard 201 (FIPS 201); to update notification procedures; and other administrative updates. We invite public comment on the amended system announced in this publication.

DATES: To be considered, written comments must be submitted on or before July 28, 2014. Unless comments are received, the new system of records will become effective as proposed on the date of publication of a subsequent notice in the Federal Register.

FOR FURTHER INFORMATION CONTACT: Dana Shields, National Oceanic and Atmospheric Administration, 301-713-0850, extension 193.

ADDRESSES: Comments may be mailed to Dana Shields, National Oceanic and Atmospheric Administration, Room 5309, 1305 East-West Hwy., Silver Spring, MD 20910.

SUPPLEMENTARY INFORMATION: The purpose of this amendment is to add citizenship country code and U.S. citizenship status code. This amendment will complete all data fields collected by the Defense Manpower Data Center and previously omitted in this System of Records Notice; to include a new routine use for the issuance of Common Access Cards (CAC) identification cards to eligible National Oceanic and Atmospheric (NOAA) Commissioned Corps, NOAA civilian employees and NOAA contractors, to support compliance with HSPD-12, PIV-II requirements under Federal Information Processing Standard 201 (FIPS 201); to update notification procedures; and other administrative updates.

COMMERCE/DEPT-1

System Name:

COMMERCE/DEPT-1, Attendance, Leave, and Payroll Records of Employees and Certain Other Persons.

Security Classification:

None.

System Location:

a. For employees of Office of the Secretary, Bureau of Economic Analysis, Bureau of Industry and Security, Bureau of the Census, Economic Development Administration, Economics and Statistics Administration, International Trade Administration, Minority Business Development Agency, National Institute of Standards and Technology, National Oceanic and Atmospheric Administration, National Telecommunications and Information Administration, National Technical Information Service, Office of the Inspector General, Patent and Trademark Office: National Finance Center, U.S. Department of Agriculture, P.O. Box 60000, New Orleans, Louisiana 70160-0001.

b. For Census Field Representative employees: Field Administrative Payroll System, Bureau of the Census, 4600 Silver Hill Road, Suitland, Maryland 20746.

Categories of Individuals Covered by the System:

All Commerce Department employees and certain other persons as categorized by organizational component above.

Categories of Records in the System:

Name, date of birth, social security number and employee number, citizenship country code, U.S. citizenship status code, service computation date, grade, step, and salary; organization (code), retirement or FICA data as applicable; Federal, State, and local tax deductions, as appropriate; IRS tax lien data; savings bond and charity deductions; regular and optional Government life insurance deduction(s), health insurance deduction and plan of code; cash award data; jury duty data; military leave data; pay differentials; union dues deductions; allotments, by type and amount; financial institution code and employee account number, type of account; leave status and leave data of all types (including annual, compensatory, jury duty, maternity, military, retirement disability, sick, transferred, absence without leave, and without pay); time and attendance records, including number of regular, overtime, holiday, Sunday, and other hours worked; pay period number and ending date of living allowances; mailing address, co-owner and/or beneficiary of bonds, marital status and number of dependents; and Notification of Personnel Action. The individual records listed herein are included only as pertinent or applicable to the individual employee.

Authority for Maintenance of the System:

Title 5 U.S.C., Title 31 U.S.C. 66a, 492, Title 44 U.S.D. 3101, 3309.

Purpose(s):

The purpose of this system is to allow for access to attendance, leave and payroll records.

Routine uses of records maintained in the system, including categories of users and the purposes of such uses:

1. Transmittal of data of U.S. Department of Agriculture, and Treasury, and employee designated financial institutions to effect issuance of paycheck to employees and distributions of pay according to employee directions for savings bonds, allotments, alimony, child support, and other authorized purposes.

2. Reporting: Tax withholding to Internal Revenue Service and appropriate State and local taxing authorities; FICA deductions to the Social Security Administration; dues deductions to labor unions; withholding for health and life insurance to the insurance carriers and the U.S. Office of Personnel Management; charity contribution deductions to the agents of charitable institutions; annual W-2 statements to taxing authorities and the individuals; wage, employment, and separation information to state unemployment compensation agencies, to the U.S. Department of Labor to determine eligibility for unemployment compensation, and to housing authorities for low-cost housing applications; and NOAA Corps data to U.S. Office of Personnel Management for preparation of statistical materials. Disclosure of information from this system of records may also be made to commercial contractors (debt collection agencies) for the purpose of collecting delinquent debts as authorized by the Debt Collection Act (31 U.S.C. 3718).

3. The names, social security numbers, home addresses, dates of birth, dates of hire, quarterly earnings, employer information, and State of hire of employees may be disclosed to the Office of Child Support Enforcement, Administration for Children and Families, Department of Health and Human Services, for the purpose of locating individuals to establish paternity, establishing and modifying orders of child support, identifying sources of income, and for other child support enforcement actions as required by the Personal Responsibility and Work Opportunity Reconciliation Act (PRWORA; Pub.-193).

4. Disclosure to consumer reporting agencies: Disclosures to 5 U.S.C. 552a(b)(12): Disclosures may be made from this system to consumer reporting agencies as defined in the Fair Credit Reporting Act (15 U.S.C. 1681a(f), and the Federal Claims Collection Act of 1966 (31 U.S.C. 3701(a)(3)).

5. A record in this system of records may be disclosed, as a routine use, to appropriate agencies, entities, and persons when (1) it is suspected or determined that the security or confidentiality of information in the system of records has been compromised; (2) the Department has determined that as a result of the suspected or confirmed compromise there is a risk of harm to economic or property interests, identify theft or fraud, or harm to the security or integrity of this system or other systems or programs (whether maintained by the Department or another agency or entity) that rely upon the compromised information; and (3) the disclosure made to such agencies, entities, and persons is reasonably necessary to assist in connection with the Department's efforts to respond to the suspected or confirmed compromise and to prevent, minimize, or remedy such harm.

6. In the event that a system of records maintained by the Department to carry out its functions indicates a violation or potential violation of law or contract, whether civil, criminal or regulatory in nature, and whether arising by general statute or particular program statute or contract, or rule, regulation, or order issued pursuant thereto, or the necessity to protect an interest of the Department, the relevant records in the system of records may be referred to the appropriate agency, whether Federal, state, local or foreign, charged with the responsibility of investigating or prosecuting such violation or charged with enforcing or implementing the statute or contract, or rule, regulation or order issued pursuant thereto, or protecting the interest of the Department.

7. A record from this system of records may be disclosed to a Federal, state or local agency maintaining civil, criminal or other relevant enforcement information or other pertinent information, such as current licenses, if necessary to obtain information relevant to a Department decision concerning the assignment, hiring or retention of an individual, the issuance of a security clearance, the letting of a contract, or the issuance of a license, grant or other benefit.

8. A record from this system of records may be disclosed to a Federal, state, local or international agency, in response to its request, in connection with the assignment, hiring or retention of an individual, the issuance of a security clearance, the reporting of an investigation of an individual, the letting of a contract, or the issuance of a license, grant, or other benefit by the requesting agency, to the extent that the information is relevant and necessary to the requesting agency's decision on the matter.

9. A record from this system of records may be disclosed in the course of presenting evidence to a court, magistrate or administrative tribunal, including disclosures to opposing counsel in the course of settlement negotiations.

10. A record in this system of records may be disclosed to a Member of Congress submitting a request involving an individual when the individual has requested assistance from the Member with respect to the subject matter of the record.

11. A record from this system of records may be disclosed to the Department of Justice in connection with determining whether disclosure thereof is required by the Freedom of Information Act 5 U.S.C. 552.

12. A record from this system of records may be disclosed to a contractor of the Department having need for the information in the performance of the contract, but not operating a system of records within the meaning of 5 U.S.C. 552a(m).

13. A record from this system of records may be disclosed to the National Archives and Records Administration or to the Administrator, General Services, or his designee during an inspection of records conducted by GSA as part of that agency's responsibility to recommend improvements in records management practices and programs, under authority of 44 U.S.C. 2904 and 2906. Such disclosure shall be made in accordance with the GSA regulations governing inspection of records for this purpose, and any other relevant (i.e. GSA or Commerce) directive. Such disclosure shall not be used to make determinations about individuals.

14. A record from this system of records may be disclosed to the Office of Management and Budget in connection with the review of private relief legislation as set forth in OMB Circular No. A-19 at any stage of the legislative coordination and clearance process as set forth in that Circular.

15. A record from this system of records may be transferred to the Office of Personnel Management: For personnel research purposes; as a data source for management information; for the production of summary descriptive statistics and analytical studies in support of the function for which the records are collected and maintained; or for related manpower studies.

16. A record from this system of records may be disclosed to the Defense Manpower Data Center in connection with the issuance of Common Access Cards (CAC) identification cards to eligible National Oceanic and Atmospheric (NOAA) Commissioned Corps, NOAA civilian employees and NOAA contractors.

Policies and Practiced for Storing, Retrieving, Accessing, Retaining and Disposing of Records in the System:

Storage:

Paper records are contained in file folders stored in file cabinets; electronic records are contained in computers, electronic databases, and servers.

Retrievability:

By name and/or employee or social security number.

Safeguards:

Records in this system are safeguarded in accordance with applicable security rules and policies. Paper records are kept in locked cabinets in secure facilities and access to them is restricted to individuals whose official duties require access. Access to computers, electronic databases, and servers containing the records in this system is limited to personnel who have the need to know the information for the performance of their official duties. The computer servers in which records are stored are located in facilities with access codes, security codes, and security guards. Access to networks and data requires a valid username and password.

Retention and Disposal:

Retained on site until after GAO audit, then disposed of, or transferred either to Federal Records Storage Centers in accordance with the fiscal records program approved by GAO, as appropriate or general Record Schedules of GSA.

System Manager(s) and Address:

National Finance Center, U.S. Department of Agriculture, P.O. Box 70160, New Orleans, Louisiana 70160.

Field Administrative Payroll System, Demographic and Decennial Census Staff, Bureau of the Census, 4600 Silver Hill Road, Suitland, MD 20746.

Notification Procedures:

For Economics and Statistics Administration and Bureau of the Census records of employees employed in the Washington, DC, metropolitan area, a Census Regional Office, the Census Hagerstown Telephone Center and the Census Tucson Telephone Center, information may be obtained from: Bureau of the Census, Human Resources Division, 4600 Silver Hill Road, Room 2J423, Washington, DC 20233, (301) 763-4748.

For records of Census employees employed by the Jeffersonville Census Data Preparation Division, information may be obtained from: Bureau of the Census, National Processing Center, Human Resource Branch, Room 126, Bldg. 66, Jeffersonville, Indiana 47132, (812) 218-3161.

For Patent and Trademark Office records, information may be obtained from: Office of Human Resources, U.S. Patent and Trademark Office, 550 Elizabeth Lane, 1A72, Alexandria, VA 22314, (571) 272-6000.

For records of International Trade Administration employees employed in the Washington, DC, metropolitan area, information may be obtained from: Office of Human Resource Management, Human Resource Operations Center, Office of the Secretary, Room 7412, 1401 Constitution Avenue NW., Washington, DC 20230, (202) 482-3301.

For records of International Trade Administration, U.S. Foreign Commercial Service employees, information may be obtained from: Office of Foreign Service Resources, Room 3227, 1401 Constitution Avenue NW., Washington, DC 20230, (202) 482-4938.

For records of National Institute of Standards and Technology employees other than those employed in Colorado and Hawaii and for Personnel Officer, Office of Human Resource Management, 100 Bureau Drive, Mail Stop 1720, Gaithersburg, Maryland 20899, (301) 975-3000.

For National Technical Information Service records, information may be obtained from: National Institute of Standards and Technology, Office of Human Resource Management, 100 Bureau Drive, Mail Stop 1720, Gaithersburg, MD 20899, (301) 975-3000.

For Office of Inspector General records, information may be obtained from: Human Resource Management Office, Room 7089, 1401 Constitution Avenue NW., Washington, DC 20230, (202) 482-4948.

For records of National Oceanic and Atmospheric Administration employees in the Washington, DC, metropolitan area, information may be obtained from: Office of Work Force Management, National Oceanic and Atmospheric Administration, 1305 East-West Highway, SSMC#4, Room 12434, Silver Spring, Maryland 20910, (301) 713-6302.

For records of Office of the Secretary, Bureau of Economic Analysis, Bureau of Industry and Security, Economic Development Agency, Minority Business Development Agency, National Telecommunications and Information Administration employees in the Washington, DC, metropolitan area, information may be obtained from: Office of Human Resource Management, Human Resource Operations Center, Office of the Secretary, Room 7412, 1401 Constitution Avenue NW., Washington, DC 20230, (202) 482-3301.

For records of regional employees of the National Oceanic and Atmospheric Administration, National Institute of Standards and Technology, Bureau of Industry and Security, Economic Development Administration, Minority Business Development Agency, International Trade Administration, and National Telecommunications and Information Administration, information may be obtained from the Human Resources Manager servicing the region or state in which they are employed as follows:

a. Central Region. For National Oceanic and Atmospheric Administration employees in the States of Arkansas, Florida, Georgia, Illinois, Indiana, Iowa, Kentucky, Louisiana, Michigan, Minnesota, Mississippi, Missouri, Ohio, Tennessee, and Wisconsin; for National Marine Fisheries Service employees in the States of North Carolina, South Carolina and Texas; and for National Weather Service employees in the States of Colorado, Kansas, Nebraska, North Dakota, South Dakota, and Wyoming; for employees in the Bureau of Industry and Security, Economic Development Administration, Minority Business Development Agency, and International Trade Administration in the States of Arkansas, Connecticut, Illinois, Indiana, Iowa, Kansas, Kentucky, Louisiana, Maine, Massachusetts, Michigan, Minnesota, Mississippi, Missouri, Nebraska, New Hampshire, New York, Ohio, Oklahoma, Pennsylvania, Rhode Island, South Carolina, South Dakota, Tennessee, Texas, Vermont, and Wisconsin: Human Resources Manager, Central Administrative Support Center (CASC), Federal Building, Room 1736, 601 East 12th Street, Kansas City, Missouri 64106, (816) 426-2056.

b. Eastern Region. For National Oceanic and Atmospheric Administration employees in the States of Connecticut, Delaware, Maine, Massachusetts, New Hampshire, New Jersey, New York, North Carolina, Ohio, Pennsylvania, Rhode Island, South Carolina, Vermont, Virginia, West Virginia, Puerto Rico, and the Virgin Islands; for employees in the Bureau of Industry and Security, Economic Development Administration, Minority Business Development Agency, and International Trade Administration in the States of Alabama, Delaware, Florida, Georgia, Maryland, New Jersey, New York, North Carolina, Pennsylvania, South Carolina, Tennessee, Virginia, West Virginia, Puerto Rico, and the Virgin Islands: Human Resources Manager, Eastern Administrative Support Center (EASC), National Oceanic and Atmospheric Administration EC, 200 World Trade Center, Norfolk, Virginia 23510, (757) 441-6517.

c. Mountain Region. For National Oceanic and Atmospheric Administration employees in the States of Alaska, Colorado, Florida, Hawaii, Idaho and Oklahoma, at the South Pole and in American Samoa; and for the National Weather Service employees in the States of Alabama, Arkansas, Florida, Georgia, Louisiana, Mississippi, New Mexico, Oklahoma, Tennessee, Texas and in Puerto Rico; for employees in Bureau of Industry and Security, Economic Development Administration, Minority Business Development Agency, National Institute of Standard and Technology, and National Telecommunications and Information Administration in the States of Arkansas, Colorado, Hawaii, Iowa, Louisiana, Missouri, Montana, South Dakota, Texas, Utah and Wisconsin: Human Resources Office, Mountain Administrative Support Center (MASC), MC22A, 325 Broadway, Boulder, Colorado 80303-3328, (303) 497-3578.

d. Western Region. For National Oceanic and Atmospheric Administration employees in the States of Arizona, California, Montana, Nevada, Oregon, Utah, Washington, and the Trust Territories; for employees in Bureau of Industry and Security, Economic Development Administration, Minority Business Development Agency, and International Trade Administration in the States of Arizona, California, Nevada, Oregon, Utah, Washington, and the Trust Territories: Human Resources Manager, Western Administrative Support Center (WASC), National Oceanic and Atmospheric Administration WC2, 7600 Sand Point Way NE., Bin C15700, Seattle, Washington 98115-0070, (206) 6057.

For all other records, information may be obtained from: Office of Human Resources Management, Human Resources Operations Center, U.S. Department of Commerce, Office of the Secretary, Room 7412 HCHB, 1401 Constitution Avenue NW., Washington, DC, 20230, (202) 482-3301.

Record Access Procedures:

Requests from individuals should be addressed to: Same address of the desired location as stated in the Notification section above.

Contesting Records Procedures:

The Department's rules for access, for contesting contents, and appealing initial determinations by the individuals concerned appear in 15 CFR part 4b. Use above address for desired location.

Record Source Categories:

Subject individuals; those authorized by the individual to furnish information, supervisors, timekeepers, official personnel records, and Internal Revenue Service.

Exemptions Claimed for the System:

None.

Dated: June 23, 2014.
Brenda Dolan,
Department of Commerce, Freedom of Information and Privacy Act Officer.

[FR Doc. 2014-15110 Filed 6-26-14; 8:45 am]

BILLING CODE 3510-12-P